DEPARTMENT OF TRANSPORTATION

Federal Aviation Administration

Third Party War Risk Liability Insurance

AGENCY: Federal Aviation Administration, DOT.

ACTION: Notice of extension of aviation insurance.

SUMMARY: This notice contains the text of a memo from the Secretary of Transportation to the President regarding the extension of the provision of aviation insurance coverage for U.S. flag commercial air carrier service in domestic and international operations.

DATES: Dates of extension from December 16, 2002 through February 13, 2003.

FOR FURTHER INFORMATION CONTACT: Helen Kish, Program Analyst, APO-3, or Eric Nelson, Program Analyst, APO-3, Federal Aviation Administration, 800 Independence Ave., SW., Washington, DC 20591, telephone 202-267-9943 or 202-267-3090. Or online at the FAA Insurance Web site: http://insurance.faa.gov.

SUPPLEMENTARY INFORMATION: On February 13, 2003, the Secretary of Transportation authorized a 60-day extension of aviation insurance provided by the Federal Aviation Administration as follows:

Memorandum To the President

Pursuant to the authority delegated to me in paragraph (3) of Presidential Determination No. 01-29 of September 23, 2001, I have extended that determination to allow for the provision of aviation insurance and reinsurance coverage for U.S. flag commercial air carrier service in domestic and international operations for an additional 60 days.

Pursuant to section 44306(b) of Chapter 443 of 49 U.S.C., Aviation Insurance, the period for provision of insurance shall be extended from February 14, 2003, through April 14, 2003.

/s/Norman Y. Mineta

Affected Public: Air Carriers who currently have Third Party War-Risk Liability Insurance with the Federal Aviation Administration.

Issued in Washington, DC, on March 18, 2003.
Nan Shellabarger,
Deputy Director, Office of Aviation Policy and Plans.

[FR Doc. 03-7075 Filed 3-24-03; 8:45 am]

BILLING CODE 4910-13-M